DEPARTMENT OF LABOR

Employment and Training Administration

[TA-W-51,828]

Texas Instruments, Inc., Leadframe, Sensors and Controls Divisions, Attleboro, MA; Notice of Termination of Investigation

Pursuant to section 221 of the Trade Act of 1974, as amended, an investigation was initiated on May 20, 2003 in response to a petition filed a company official on behalf of workers at Texas Instruments, Leadframe Division, and Sensors and Controls Division, Attleboro, Massachusetts.

The petitioner has requested that the petition be withdrawn. Consequently, further investigation would serve no purpose, and the investigation has been terminated.

Signed at Washington, DC this 13th day of June, 2003.
Linda G. Poole,
Certifying Officer, Division of Trade Adjustment Assistance.

[FR Doc. 03-16914 Filed 7-2-03; 8:45 am]

BILLING CODE 4510-30-M